ENVIRONMENTAL PROTECTION AGENCY

40 CFR Part 1068

General Compliance Provisions for Highway, Stationary, and Nonroad Programs

CFR Correction

This rule is being published by the Office of the Federal Register to correct an editorial or technical error that appeared in the most recent annual revision of the Code of Federal Regulations.

In Title 40 of the Code of Federal Regulations, Part 1060 to End, revised as of July 1, 2024, amend § 1068.250 by reinstating paragraph (i) to read as follows:

§ 1068.250 Extending compliance deadlines for small businesses under hardship.

* * * * *

(i) We may include reasonable requirements on an approval granted under this section, including provisions to recover or otherwise address the lost environmental benefit. For example, we may require that you meet a less stringent emission standard or buy and use available emission credits.

* * * * *

[FR Doc. 2024-21640 Filed 9-19-24; 8:45 am]

BILLING CODE 0099-10-P